ENVIRONMENTAL PROTECTION AGENCY

[FRL -9817-01-OA]

Public Meeting of the Science Advisory Board Drinking Water Committee (DWC) Augmented for the Contaminant Candidate List 5 Review

AGENCY: Environmental Protection Agency (EPA).

ACTION: Notice.

SUMMARY: The Environmental Protection Agency (EPA) Science Advisory Board (SAB) Staff Office announces one public meeting of the Science Advisory Board Drinking Water Committee (DWC) Augmented for the Contaminant Candidate List 5 (CCL 5) Review. The purpose of the meeting is for the Committee to discuss their draft report reviewing EPA's Draft Fifth Drinking Water Contaminant Candidate List (CCL 5) (86 FR 37948) and three associated support documents: Technical Support Document for the Draft Fifth Contaminant Candidate List (CCL 5)—Contaminant Information Sheets; Technical Support Document for the Draft Fifth Contaminant Candidate List (CCL 5)—Chemical Contaminants; and Technical Support Document for the Draft Fifth Contaminant Candidate List (CCL 5)—Microbial Contaminants.

DATES: The public meeting for the Science Advisory Board DWC Augmented for the CCL 5 Review to review its draft document will be held on June 6, 2022, from 12:30 p.m.—5:00 p.m. (Eastern Time).

ADDRESSES: The meeting will be conducted virtually. Please refer to the SAB website at https://sab.epa.gov for information on how to attend the meeting.

FOR FURTHER INFORMATION CONTACT: Any member of the public who wants further information concerning this notice may contact Carolyn Kilgore, Designated Federal Officer (DFO), via telephone (202) 564-0230, or email at Kilgore.Carolyn@epa.gov. General information about the SAB, as well as any updates concerning the meetings announced in this notice can be found on the SAB website at https://sab.epa.gov.

SUPPLEMENTARY INFORMATION: Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the Science Advisory Board DWC Augmented for the CCL 5 5 Review will hold a public meeting to discuss their draft report reviewing EPA's Draft Fifth Drinking Water Contaminant Candidate List and associated support documents.

Availability of Meeting Materials: All meeting materials, including the agenda will be available on the SAB web page at https://sab.epa.gov.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comment should follow the instruction below to submit comments.

Oral Statements: In general, individuals or groups requesting an oral presentation at a meeting conducted by telephone will be limited to three minutes. Each person making an oral statement should consider providing written comments as well as their oral statement so that the points presented orally can be expanded upon in writing. Persons interested in providing oral statements should contact the DFO, in writing (preferably via email) at the contact information noted above by May 31, 2022, to be placed on the list of registered speakers.

Written Statements: Written statements will be accepted throughout the advisory process; however, for timely consideration by SAB members, statements should be submitted to the DFO by May 24, 2022, for consideration at the June 6, 2022, meeting. Written statements should be supplied to the DFO at the contact information above via email. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact the DFO, at the contact information noted above, preferably at least ten days prior to the meeting, to give the EPA as much time as possible to process your request.

Thomas H. Brennan,
Director, Science Advisory Board Staff Office.

[FR Doc. 2022-09945 Filed 5-9-22; 8:45 am]

BILLING CODE 6560-50-P